DEPARTMENT OF THE INTERIOR

Bureau of Ocean Energy Management

Gulf of Mexico, Outer Continental Shelf, Central Planning Area, Oil and Gas Lease Sale 216/222

AGENCY: Bureau of Ocean Energy Management (BOEM), Interior.

ACTION: Notice of Availability (NOA) of a Record of Decision (ROD) on a Final Supplemental Environmental Impact Statement (SEIS) for Gulf of Mexico (GOM), Outer Continental Shelf (OCS) Oil and Gas Lease Sale: 2012 Central Planning Area (CPA) Lease Sale 216/222

Authority: This NOA is published pursuant to the regulations (40 CFR 1506) implementing the provisions of the National Environmental Policy Act of 1969, as amended (42 U.S.C. 4321 et seq. [1988]) (NEPA).

SUMMARY: BOEM has prepared a ROD following the completion of the Final SEIS for CPA Consolidated Lease Sale 216/222, the final lease sale in the 2007-2012 OCS Oil and Gas Leasing Program (Five-Year Program), which is scheduled for June 20, 2012. In preparing the ROD, BOEM considered alternatives to the proposed action and the impacts as presented in the Final SEIS and all comments received throughout the NEPA process. The Final SEIS updates two previous environmental and socioeconomic analyses for CPA Lease Sale 216/222. The GOM OCS Oil and Gas Lease Sales: 2007-2012; Western Planning Area Lease Sales 204, 207, 210, 215, and 218; Central Planning Area Lease Sales 205, 206, 208, 213, 216, and 222, Final Environmental Impact Statement (OCS EIS/EA MMS 2007-018) (Multisale EIS), completed in April 2007, originally analyzed CPA Lease Sale 216/222. The Gulf of Mexico OCS Oil and Gas Lease Sales: 2009-2012; Central Planning Area Lease Sales 208, 213, 216, and 222; Western Planning Area Lease Sales 210, 215, and 218; Final Supplemental Environmental Impact Statement (OCS EIS/EA MMS 2008-041) (2009-2012 Supplemental EIS), completed in September 2008, updated the socioeconomic and environmental analyses for CPA Lease Sale 216/222. BOEM developed the Final SEIS for CPA Lease Sale 216/222 in order to consider new circumstances and information arising from, among other things, the Deepwater Horizon explosion and oil spill. After careful consideration, BOEM has determined that in light of significant safety and environmental reforms since the Deepwater Horizon oil spill and the economic and energy security benefits of exploring and developing the domestic energy resources available in the CPA, including job creation, it is appropriate to hold a sale in this area at this time. BOEM resource assessments for the CPA indicate that the area contains over 30 billion barrels of oil (BBO) and over 133 trillion cubic feet (Tcf) of natural gas which are undiscovered and technically recoverable.

SUPPLEMENTARY INFORMATION: In this Final SEIS, BOEM evaluated four alternatives, which are summarized below.

Alternative A—The Proposed Action: Alternative A is BOEM's preferred alternative. This alternative would offer for lease all unleased blocks within the CPA for oil and gas operations, except:

(1) Blocks that were previously included within the GOM's Eastern Planning Area (EPA) and are within 100 miles (mi) (161 kilometers [km]) of the Florida coast;

(2) Blocks east of the Military Mission line (86 degrees, 41 minutes West longitude) under an existing moratorium until 2022, as a result of the Gulf of Mexico Energy Security Act of 2006 (Pub. Law 109-432);

(3) Blocks that are beyond the U.S. Exclusive Economic Zone in the area known as the northern portion of the Eastern Gap; and

(4) Whole and partial blocks that lie within the former Western Gap and are within 1.4 nautical miles north of the continental shelf boundary between the United States and Mexico.

The CPA lease sale area encompasses about 63 million acres. Approximately 38.6 million acres (61%) of the CPA lease sale area is currently unleased. The estimated amount of resources projected to be developed as a result of the proposed CPA lease sale is 0.801-1.624 BBO and 3.332-6.560 Tcf of gas.

Alternative B—The Proposed Action Excluding the Unleased Blocks Near Biologically Sensitive Topographic Features: This alternative would offer for lease all unleased blocks in the CPA, as described for the proposed action (Alternative A), with the exception of any unleased blocks subject to the Topographic Features Stipulation, as presented in the Final SEIS, which is designed to offer additional environmental protections in these areas, if they are leased.

Alternative C— The Proposed Action Excluding the Unleased Blocks within 15 Miles of the Baldwin County, Alabama, Coast: This alternative would offer for lease all unleased blocks in the CPA, as described for the proposed action (Alternative A), with the exception of any unleased blocks within 15 mi (24 km) of the Baldwin County, Alabama coast.

Alternative D—No Action: This alternative would cancel the proposed CPA lease sale and is the environmentally preferred alternative.

BOEM has determined that the economic and energy security benefits of exploring and developing the domestic energy resources available in the GOM, including job creation, merit holding a sale in this area at this time. Lost production from cancellation of the sale would likely result in substitution of resources that would also have negative environmental impacts. Moreover, given the long history of exploration and development in this area, as well as significant current activity, the GOM has significant onshore and offshore infrastructure to support continuing oil and gas activity. This infrastructure includes advanced oil spill response infrastructure that has been enhanced since the Deepwater Horizon oil spill due to strengthened safety and environmental standards and efforts on the part of industry to comply with new regulatory requirements and provide additional resources, including for example, the readiness of equipment necessary to contain a subsea spill. After careful consideration, BOEM has selected Alternative A, the Proposed Action.

Record of Decision Availability: To obtain a single printed or CD-ROM copy of the Record of Decision for CPA Lease Sale 216/222, you may contact BOEM, GOM OCS Region, Public Information Office (MS 5034), 1201 Elmwood Park Boulevard, Room 250, New Orleans, Louisiana 70123-2394 (1-800-200-GULF). An electronic copy of the Record of Decision is available on BOEM's Internet Web site at http://www.boem.gov/Environmental-Stewardship/Environmental-Assessment/NEPA/nepaprocess.aspx.

FOR FURTHER INFORMATION CONTACT: For more information on the Record of Decision, you may contact Mr. Gary D. Goeke, Chief, Regional Assessment Section, Office of Environment, BOEM, GOM OCS Region, 1201 Elmwood Park Boulevard (MS 5410), New Orleans, Louisiana 70123-2394, You may also contact Mr. Goeke by telephone at (504) 736-3233.

Dated: May 10, 2012.
Tommy P. Beaudreau,
Director, Bureau of Ocean Energy Management.

[FR Doc. 2012-11999 Filed 5-17-12; 8:45 am]

BILLING CODE 4310-MR-P